DEPARTMENT OF COMMERCE

Bureau of Industry and Security

Materials Technical Advisory Committee; Notice of Closed Meeting

The Materials Technical Advisory Committee will meet on October 14, 2004, at 10:30 a.m., in the Herbert C. Hoover Building, Room 3884, 14th Street and Pennsylvania Avenue, NW., Washington, DC. The Committee advises the Office of the Assistant Secretary for Export Administration with respect to technical questions that affect the level of export controls applicable to materials and related technology.

The Committee will meet only in closed session to discuss matters determined to be exempt from the provisions relating to public meetings found in 5 U.S.C. app. 2 10(a)(1) and 10(a)(3). The Assistant Secretary for Administration, with the concurrence of the delegate of the General Counsel, formally determined on September 13, 2004, pursuant to Section 10(d) of the Federal Advisory Committee Act, as amended (5 U.S.C. app. 2 (10)(d)), that the portions of this meeting dealing with pre-decisional changes to the Commerce Control List and U.S. export control policies and the portions of this meeting disclosing privileged and confidential business information shall be exempt from the provisions relating to public meetings found in 5 U.S.C. app. 2 10(a)(1) and 10(a)(3). The entire meeting will include discussion concerning these matters.

For more information, contact Lee Ann Carpenter on 202-482-2583.

Dated: September 22, 2004.
Lee Ann Carpenter,
Committee Liaison Officer.

[FR Doc. 04-21564 Filed 9-24-04; 8:45 am]

BILLING CODE 3510-JT-M